DEPARTMENT OF TRANSPORTATION

Federal Aviation Administration

Public Notice for Waiver of Aeronautical Land-Use Assurance Mansfield Lahm International Airport, Mansfield, OH

AGENCY: Federal Aviation Administration, DOT.

ACTION: Notice of intent of waiver with respect to land.

SUMMARY: The Federal Aviation Administration (FAA) is considering a proposal to change a portion of the airport from aeronautical use to non-aeronautical use and to authorize the sale of the airport property. The proposal consists of the sale of vacant, much of which is farmed or vacant land, containing trees, streams, and scattered wetland areas owned by the City of Mansfield. The Miller Farm Parcel #50 is approximately 100.521 acres. The land was acquired under FAA Project No(s) AIP-90-2-3-39-0049 0991 (Contract No. AIP FA91-GL-l806). There are no impacts to the airport by allowing the airport to dispose of the property. The proposed land for release is vacant, not required for future development, safety, or compatible land use. The intended land use is infrastructure development, including roads, utilities, and industrial development. Approval does not constitute a commitment by the FAA to financially assist in the disposal of the subject airport property nor a determination of eligibility for grant-in-aid funding from the FAA. The disposition of proceeds from the disposal of the airport property will be in accordance with FAA's Policy and Procedures Concerning the Use of Airport Revenue, published in the Federal Register on February 16, 1999.

In accordance with section 47107(h) of title 49, United States Code, this notice is required to be published in the Federal Register 30 days before modifying the land-use assurance that requires the property to be used for an aeronautical purpose.

DATES: Comments must be received on or before December 1, 2008.

FOR FURTHER INFORMATION CONTACT: Stephanie Swarm, Program Manager, Detroit Airports District Office, 11677 South Wayne Road, Suite 107, Romulus, Michigan 48174. Telephone Number: (734) 229-2945/FAX Number: (734) 229-2950. Documents reflecting this FAA action may be reviewed at this same location or at Mansfield Lahm International Airport, Mansfield, Ohio.

SUPPLEMENTARY INFORMATION: Following is a legal description of the property located in Franklin Township, County of Richland, State of Ohio, and described as follows:

(Legal Description of Property).

Being a part of the southwest quarter of section 33, township 22, range 18 and being more particularly described as follows:

Beginning at the base of an 8″ wood fence post found at the northeast corner of said southwest quarter, referenced by a ⅝″ rebar found bearing N 89°−12′−33″ E, 0.79 feet;

Thence with the following eight courses:

S 00°−08′−51″ E, 508.28 feet along the east line of said southwest quarter to a ⅝ inch rebar found at the northeast corner of a conveyed to Charles R. and Dorothy A. Miller, Trustees by official record volume 177, page 252;

N 84°−13′−51″ W, 148.00 feet along the northerly line of said land of Charles R. and Dorothy A. Miller to a ⅝ inch rebar found in the northwest corner of said land.

S 00°−08′−51″ E, 296.00 feet along the west line of said land of Charles R. and Dorothy A. Miller to a ⅝ inch rebar with plastic cap stamped “Richland Eng. RLS 7209″ in the southwest corner of said land.

S 89°−12′−33″ W, 1,244.71 feet to an iron pin set; S 00°−08′−51″ E, 1,825.57 feet to an iron pin set; S 89°−28′−00″ W, 1,262.88 feet to an iron set in the west line of said southwest quarter;

N 00°−38′−10″ W, 2,607.11 feet along said west line of said southwest quarter to a inch water pipe found in the northwest corner of said southwest quarter and passing through an iron pin found at 21.04 feet;

Thence, N 89°−12′−33″ E, 2,677.09 along the north line of said southwest quarter to the place of beginning, containing 100.521 acres, more or less of which 1,689 acres are in the southwest quarter of section 33, Franklin Township and 96.832 acres are in the City of Mansfield and subject to all legal highways and easements of record.

Bearings: Survey X-230.

According to a survey made in September 2007 by Roger L. Stevens, Ohio Registered surveyor NO: 7052.

All iron pins set are ⅝ inch diameter rod with plastic cap stamped “S.J.L. INC.”

Issued in Romulus, Michigan on September 22, 2008.
Matthew J. Thys,
Manager, Detroit Airports District Office, FAA, Great Lakes Region.

[FR Doc. E8-26038 Filed 10-30-08; 8:45 am]

BILLING CODE 4910-13-M